DEPARTMENT OF THE INTERIOR

Fish and Wildlife Service

Endangered and Threatened Species Permit Applications

AGENCY: Fish and Wildlife Service

ACTION: Notice of receipt of applications.

SUMMARY: The following applicants have applied for a scientific research permit to conduct certain activities with endangered species pursuant to section 10(a)(1)(A) of the Endangered Species Act of 1973, as amended (16 U.S.C. 1531. et seq.).

DATES: Written comments on these permit applications must be received within 30 days of the date of publication.

ADDRESSES: Written data or comments should be submitted to the Chief, Endangered Species Division, Ecological Services, P.O. Box 1306, Room 4102, Albuquerque, New Mexico 87103; (505) 248-6649; Fax (505) 248-6788. Documents will be available for public inspection by written request, by appointment only, during normal business hours (8 to 4:30) at the U.S. Fish and Wildlife Service, 500 Gold Ave. SW, Room 4102, Albuquerque, New Mexico. Please refer tot he respective permit number for each application when submitting comments. All comments received, including names and addresses, will become part of the official administrative record and may be made available to the public.

FOR FURTHER INFORMATION CONTACT: Chief, Endangered Species Division, Ecological Services, P.O. Box 1306, Room 4102, Albuquerque, New Mexico 87103. Documents and other information submitted with these applications are available for review, subject to the requirements of the Privacy Act and Freedom of Information Act, by any party who submits a written request to the address above for a copy of such documents within 30 days of the date of publication of this notice.

SUPPLEMENTARY INFORMATION:

Permit No. TE-835414

Applicant: Northern Arizona University-Department of Biological Sciences, Flagstaff, Arizona.

Applicant requests an amendment to an existing permit to allow collection of Colorado pikeminnow (Ptychocheilus lucius) and razorback sucker (Xyrauchen texanus) from the Dexter National Fish Hatchery and Technology Center, Dexter, New Mexico for use in research at the Rocky Mountain Ark Wildlife Rehabilitation Center, Telluride, Colorado.

Permit No. TE-026690

Applicant: Dynamac Corporation, Corrallis, Oregon.

Applicant request an amendment, to an existing permit to allow presence/absence surveys within Arizona for the following species: Gila topminnow (Poeciliopsis occidentalis), bonytail chub (Gila elegans), Virgin River chub (Gila robusta semidnuda), humpback chub (Gila cypha). Yaqui chumb (Gila purpurea). Colorado pikeminnow (Ptychocheilus lucius), desert pupfish (Cytprinodon macularius), razorback sucker (Xyrauchen texanus), Gila trout (Oncorhynchus gilae), and woundfin (Plagopterus argentissimus).

Permit No. TE-064085

Applicant: Iris Rodden, Tucso, Arizona.

Applicant requests a permit for research and recovery purposes to conduct presence/absence surveys for cactus ferruginous pygmy owl (Glaucidium brasilianum cactorum) and southwestern willow flycatcher (Empidonax traillii extimus) within Arizona.

Permit No. TE-006655

Applicant: Logan Simpson Design, Inc., Tempe, Arizona.

Applicant requests an amendment to an existing permit to allow presence/absence surveys for the following species within Arizona: Yuma Clapper rail (Rallus longirostris yumanensis), black-footed ferret (Mustela nigripes), and jaguar (Panthera onca).

Permit No. TE-062322

Applicant: Jerry Fant, Wimberly, Texas.

Applicant requests a permit for research and recovery purposes to conduct presence/absence surveys for the following species within Texas: Mexican long-nosed bat (Leptonycteris nivalis). Texas blind Salamander (Typhlomolge rathbuni), Peck's Cave amphipod (Stygobromus pecki), Tooth Cave pseudoscorpion (Tartarocreagris texana), Tooth Cave spider (Neoleptoneta microps), Madla's Cave meshweaver (Cicurina madla), Robber Baron Cave meshweaver (Cicurina baronia). Bracken Bat Cave Meshweaver (Cicurina venii). Government Canyon Cave meshweaver (Cicurina vespera). Bee Creek Cave harvestman (Texella reddelli), Bone Cave harvestman (Texella reyesi), Cokendolpher Cave harvestman (Texella cokendolpheri), Tooth Cave ground beetle (Rhadine persephone). Kretschmarr Cave mold beetle (Texamaurops reddelli), Coffin Cave mold beetle (Batrisodes texanus), ground beetle (Rhadine exilis), ground beetle (Rhadine infernalis), and Helotes Mold beetle (Batrisodes venyivi).

Permit No. TE-061095

Applicant: Valley Natura Center, Weslaco, Texas.

Applicant requests a permit for research and recovery purposes to allow collection of dead specimens of the following species for educational display: jaguarundi (Herpailurus yagouaroundi cacomitli), ocelot (Leopardus pardalis), northern aplomado falcon (Falco femoralis septentrionalis), piping plover (Charadrius melodus), interior least tern (Sterna antillarum), green sea turtle (Chelonia mydas), hawsbill sea turtle (Eretmochelys imbricata), Kemp's ridley sea turtle (Lepidochelys kempii), leatherback sea turtle (Dermochelys coriacea), and loggerhead seat turtle (Caretta caretta)/. Applicant additionally request authorization to collect live specimens and propagate the following species: Texas ayeniz ((Ayenia limitaris), South Texas ambrosia (Ambrosia cheiranthifolia), star cactus (Astrophytum asterias), Waler's manioc (Manihot walkerage), ashy dogweed (Thymophylla tephroleuca) Johnston's frankenia (Frankenia johnstonii), and Zapata bladderpod (Lesquerella thamnophila). All plant and wildlife specimens will be collected from within Texas.

Permit No. TE-062323

Applicant: Robert Hershler, Washington, DC.

Applicant request a permit for research and recovery purposes to allow collection of Socorro springsnail (Pyrgulopsis neomexicana) form Socorro County, New Mexico.

Permit No. TE-064431

Applicant: AZTEC, Phoenix, Arizona.

Applicant requests a permit for research and recovery purposes to conduct presence/absence surveys for cactus ferrunginous pygmy owl (Glaucidium brasilianum cactorum) within Arizona, and for southwestern willow flycatcher (Empidonax traillii extimus) and Yuma clapper rail (Rallus longirostris yumanensis) within Arizona and California.

Bryan Arroyo,
Assistant Regional Director, Ecological Services Region 2, Albuquerque, New Mexico.

[FR Doc. 02-32674 Filed 12-26-02; 8:45 am]

BILLING CODE 4310-55-M